DEPARTMENT OF THE TREASURY

Office of Foreign Assets Control

Identification of Six Individuals Pursuant to the Iranian Transactions and Sanctions Regulations and Executive Order 13599

AGENCY: Office of Foreign Assets Control, Department of the Treasury.

ACTION: Notice.

SUMMARY: The Treasury Department's Office of Foreign Assets Control (“OFAC”) is publishing the names of six individuals identified as the Government of Iran pursuant to the Iranian Transactions and Sanctions Regulations, 31 CFR part 560 (“ITSR”), and Executive Order 13599.

DATES: The identification by the Director of OFAC of the individuals identified in this notice, pursuant to the ITSR and Executive Order 13599, is effective on May 23, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 5, 2012, the President issued Executive Order 13599, “Blocking Property of the Government of Iran and Iranian Financial Institutions” (the “Order”). Section 1 (a) of the Order blocks, with certain exceptions, all property and interests in property of the Government of Iran, including the Central Bank of Iran, that are in the United States, that hereafter come within the United States, or that are or hereafter come within the possession or control of any United States person, including any foreign branch.

Section 7 (d) of the Order defines the term “Government of Iran” to mean the Government of Iran, any political subdivision, agency, or instrumentality thereof, including the Central Bank of Iran, and any person owned or controlled by, or acting for or on behalf of, the Government of Iran.

Section 560.211of the ITSR implements Section 1(a) of the Order. Section 560.304 of the ITSR defines the term “Government of Iran” to include: “(a) The state and the Government of Iran, as well as any political subdivision, agency, or instrumentality thereof, including the Central Bank of Iran; (b) Any person owned or controlled, directly or indirectly, by the foregoing; and (c) Any person to the extent that such person is, or has been, since the effective date, acting or purporting to act, directly or indirectly, for or on behalf of any of the foregoing; and (d) Any other person determined by the Office of Foreign Assets Control to be included within [(a) through (c)].”

On May 23, 2013, the Director of OFAC identified six individuals as meeting the definition of the Government of Iran pursuant to the Order and the ITSR. The listing for the individuals is as follows:

Individuals

1. BAHADORI, Masoud; nationality Iran; Passport T12828814 (Iran); Managing Director, Petro Suisse Intertrade Company (individual) [IRAN].

2. BAZARGAN, Farzad; DOB 03 Jun 1956; Passport D14855558 (Iran); alt. Passport Y21130717 (Iran); Managing Director, Hong Kong Intertrade Company (individual) [IRAN].

3. GHALEBANI, Ahmad (a.k.a. GHALEHBANI, Ahmad; a.k.a. QALEHBANI, Ahmad); DOB 01 Jan 1953 to 31 Dec 1954; Passport H20676140 (Iran); Managing Director, National Iranian Oil Company; Director, Hong Kong Intertrade Company; Director, Petro Suisse Intertrade Company (individual) [IRAN].

4. JASHNSAZ, Seifollah (a.k.a. JASHN SAZ, Seifollah; a.k.a. JASHNSAZ, Seyfollah); DOB 01 Mar 1958 to 31 Mar 1958; nationality Iran; Passport R17589399 (Iran); Chairman & Director, Naftiran Intertade Co. (NICO) Sarl; Chairman & Director, Naft Iran Intertade Company Ltd.; Director, Hong Kong Intertrade Company; Chairman & Director, Petro Suisse Intertrade Compay (individual) [IRAN].

5. NIKOUSOKHAN, Mahmoud; DOB 01 Jan 1961 to 31 Dec 1962; nationality Iran; Passport U14624657 (Iran); Finance Director, National Iranian Oil Company; Director, Hong Kong Intertrade Company; Director, Petro Suisse Intertrade Company (individual) [IRAN].

6. POURANSARI, Hashem; nationality Iran; Passport B19488852 (Iran); Managing Director, Asia Energy General Trading (individual) [IRAN].

Dated: May 23, 2013.
Barbara C. Hammerle,
Acting Director, Office of Foreign Assets Control.

[FR Doc. 2013-13167 Filed 6-3-13; 8:45 am]

BILLING CODE P